ENVIRONMENTAL PROTECTION AGENCY

[FRL-7592-8]

Science Advisory Board Staff Office; Notification of Upcoming Science Advisory Board Meetings of the Multimedia, Multipathway, and Multireceptor Risk Assessment (3MRA) Modeling System Panel

AGENCY: Environmental Protection Agency (EPA).

ACTION: Notice.

SUMMARY: The EPA Science Advisory Board (SAB) Staff Office announces a conference call of the Multimedia, Multipathway, and Multireceptor Risk Assessment (3MRA) Modeling System Panel.

DATES: December 15, 2003. A public teleconference call meeting of the 3MRA Panel will be held from 1 p.m. to 5 p.m. (Eastern Time).

ADDRESSES: Participation in the teleconference meeting will be by teleconference only.

FOR FURTHER INFORMATION CONTACT: Members of the public who wish to obtain the call-in number and access code to participate in the teleconference meeting may contact EPA Science Advisory Board Staff, at telephone/voice mail: (202) 564-4533. Any member of the public wishing further information regarding the SAB or the 3MRA Panel may contact Ms. Kathleen White, Designated Federal Officer (DFO), U.S. EPA Science Advisory Board (1400A), 1200 Pennsylvania Avenue, NW., Washington, DC 20460; by telephone/voice mail at (202) 564-4559; or via e-mail at white.kathleen@epa.gov. General information about the SAB can be found in the SAB Web site at http://www.epa.gov/sab.

SUPPLEMENTARY INFORMATION: Background: Pursuant to the Federal Advisory Committee Act, Public Law 92-463, Notice is given that the 3MRA Panel will hold a public teleconference to allow the Panel to further edit and discuss approval of the Panel's final report, the Agency's Multimedia, Multipathway, and Multireceptor Risk Assessment (3MRA) Modeling System.

Background on the SAB, the 3MRA Panel, and this review was provided in a Federal Register notice published on April 11, 2003 (68 FR 17797-17800). Subsequent, additional meetings were announced in a Federal Register notice published on August 6, 2003 (68 FR 46606-46607).

More information regarding this review can be found at the SAB Web site at http://www.epa.gov/sab/panels/3mramspanel.html. The review documents and background information are located at http://www.epa.gov/epaoswer/hazwaste/id/hwirwste/risk.htm. Individuals who are unable to access the documents electronically may contact Mr. Stephen Kroner of the Office of Solid Waste at (703) 308-0468 or via e-mail to kroner.stephen@epa.gov to make other arrangements. A very limited number of paper copies can be made available in special circumstances.

Procedures for Providing Public Comment. It is the policy of the EPA Science Advisory Board (SAB) Staff Office to accept written public comments of any length, and to accommodate oral public comments whenever possible. The EPA SAB Staff Office expects that public statements presented at the 3MRA Panel's meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) in writing (email, fax or mail) at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access these meetings, should contact Ms. White at least five business days prior to the meeting so that appropriate arrangements can be made.

Dated: November 4, 2003.
Vanessa T. Vu,
Director, EPA Science Advisory Board Staff Office.

[FR Doc. 03-29840 Filed 11-28-03; 8:45 am]

BILLING CODE 6560-50-P